DEPARTMENT OF HEALTH AND HUMAN SERVICES

Centers for Disease Control and Prevention

[30 Day-11-10BU]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Case Studies of Communities and States Funded under Community Activities under the Communities Putting Prevention to Work Initiative—New—National Center for Chronic Disease Prevention and Health Promotion (NCCDPHP), Centers for Disease Control and Prevention (CDC).

Background and Brief Description

Chronic diseases such as cancer, heart disease, and diabetes are among the leading causes of death and disability in the United States, but are among the most preventable health problems. Adopting healthy behaviors such as eating nutritious foods, being physically active and avoiding tobacco use can prevent or control the devastating effects of these diseases.

The American Recovery and Reinvestment Act of 2009 (ARRA) allotted $650 million to the Department of Health and Human Services (HHS) to support evidence-based prevention and wellness strategies. The cornerstone of the initiative is the Communities Putting Prevention to Work (CPPW) Community Program, administered by the Centers for Disease Control and Prevention (CDC). Through this program, all States and territories, and 44 communities, have received cooperative agreement funding to implement evidence-based community approaches to chronic disease prevention over a 24-month period. In September 2010, the initiative was expanded to include additional communities funded through a $34 million allotment from the Affordable Care Act. The long-term goals of the CPPW are to modify the environmental determinants of risk factors for chronic diseases, prevent or delay chronic diseases, promote wellness in children and adults, and provide positive, sustainable health change in communities.

Grantees are working with partners such as local and State health departments and agencies, health centers, schools, businesses, community and faith-based organizations, academic institutions, health care and mental health organizations, and others to create policies, systems, and environments that promote improvements in physical activity and nutrition, and decrease the prevalence of obesity and tobacco use. Each grantee has selected strategies for implementing change from five categories involving media, access, price, point of purchase decision, and support services (MAPPS). These approaches were selected from a reference set of evidence-based strategies provided by CDC.

CDC proposes to collect information from a subset of CPPW States and communities to gain insight into the factors that facilitate or hinder implementation of the MAPPS strategies and effective creation of the desired policy, system, and environmental changes. Intensive case studies will be conducted with 24 sites: Six ARRA-funded CPPW States, 15 ARRA-funded CPPW communities, and three communities funded by the Affordable Care Act. The case study sites will be selected to include a mix of State or community characteristics related to population density, geographic region, and targeted population.

Information will be collected during personal interviews with an average of 20 respondents at each case study site. On average, each site's respondents will consist of the program director and one additional member of the site management team; four additional CPPW staff members; a mix of seven Community Partners, Leadership Team Members and implementers; and a mix of seven policy- and decision-makers. To obtain a variety of perspectives, respondents will include representatives of the private sector as well as representatives from the State and local government sector. The length of the interview and the questions asked will vary according to the type of respondent being interviewed. Three Interview Guide instruments have been developed to facilitate the case study interviews.

The interview scheduling process is also estimated to entail six hours of burden per site. Each site's program director will take about one hour to complete an Interview Planning Tool, and a CPPW staff member will devote approximately five hours to coordinating interviews and completing the final Worksheet for Scheduling Site Visit Interviews.

Participation is required for each case study site, however, participation in the interviews will be voluntary for individual respondents.

The case study information to be collected will assist the Federal government, State and local governments, and communities in planning future strategies designed to promote sustainable policy, systems and environmental changes that improve public health. As a result of the CPPW program, powerful models of success are expected to emerge that can be replicated in other States and communities.

OMB approval is requested for two years. Information will be collected at the beginning of the CPPW funding period and again approximately 18 months post-award. The total estimated annualized burden to respondents is 678 hours. There are no costs to respondents other than their time.

Estimated Annualized Burden Hours
Type of respondents | Form name | Number of respondents | Number of responses per respondent | Average burden per response (in hrs)
CPPW Project Management | Interview Planning Tool | 24 | 1 | 1
| Interview Guide for Project Management and Staff | 48 | 1 | 2
CPPW Project Staff | Worksheet for Scheduling Site Visit Interviews | 24 | 1 | 5
| Interview Guide for Project Management and Staff | 96 | 1 | 1.5
Community Partners, Leadership Team and Implementers (State and local govt.) | Interview Guide for Community Partners, Leadership Team and Implementers | 72 | 1 | 1
Community Partnership, Leadership Team and Implementers (private sector) | Interview Guide for Community Partners, Leadership Team and Implementers | 96 | 1 | 1
Policy/Decision Makers (State and local govt.) | Interview Guide for Policy/Decision Makers | 48 | 1 | 45/60
Policy/Decision Makers (private sector) | Interview Guide for Policy/Decision Makers | 120 | 1 | 45/60

Dated: October 18, 2010.
Carol E. Walker,
Acting Reports Clearance Officer, Centers for Disease Control and Prevention.

[FR Doc. 2010-26697 Filed 10-21-10; 8:45 am]

BILLING CODE 4163-18-P